DEPARTMENT OF ENERGY

Federal Energy Regulatory Commission

[Docket No. ER02-1420-003, et al.]

Midwest Independent Transmission System Operator, Inc., et al.; Electric Rate and Corporate Regulation Filings

July 5, 2002.

The following filings have been made with the Commission. The filings are listed in ascending order within each docket classification.

1. Midwest Independent Transmission System Operator, Inc.

[Docket No. ER02-1420-003]

Take notice that on June 28, 2002, Westar Energy, Inc. and its wholly owned subsidiary, Kansas Gas and Electric Company (collectively referred to as Westar Energy), submitted their compliance filing in response to the Commission's May 31, 2002 order in Midwest Independent Transmission System Operator, Inc., 99 FERC ¶ 61,250.

A copy of this filing was served on all parties in Docket No. ER02-1420.

Comment Date: July 19, 2002.

2. Virginia Electric and Power Company

[Docket No. ER02-2185-000]

Take notice that on June 28, 2002, Virginia Electric and Power Company (the Company) respectfully tendered for filing the following Service Agreement by Virginia Electric and Power Company to Southeastern Power Administration, designated as Service Agreement No. 3 under the Company's Wholesale Cost-Based Rate Tariff, FERC Electric Tariff, Original Volume No. 7, effective on January 16, 2002.

The Company requests an effective date of June 6, 2002, as requested by the customer. Copies of the filing were served upon Southeastern Power Administration, the Virginia State Corporation Commission, and the North Carolina Utilities Commission.

Comment Date: July 19, 2002.

3. ARE Generation Company, L.L.C.

[Docket No. ER02-2187-000]

Take notice that on June 28, 2002, ARE Generation Company, L.L.C. (AGC) submitted for filing a notice of cancellation pursuant to 18 CFR 35.15 to reflect the cancellation of its FERC Electric Tariff, Original Volume No. 1, and Service Agreement No. 1 under that tariff, with a proposed effective date of June 28, 2002. Notice of the filing was served on BP Energy Company, the customer under the service agreement.

Comment Date: July 19, 2002.

4. Southern California Edison Company

[Docket No. ER02-2188-000]

Take notice that on June 28, 2002, Southern California Edison Company (SCE) tendered for filing a Notice of Cancellation (Notice) of the Interconnection Facilities Agreement and a Service Agreement for Wholesale Distribution Service between SCE and Sierra Power Corporation. The Notice cancels FERC Electric Tariff, Original Volume No. 5, Service Agreements No. 30 and No. 34.

Notice of the proposed cancellation has been served upon the Public Utilities Commission of the State of California and Sierra Power Corporation.

Comment Date: July 19, 2002.

5. Southern California Edison Company

[Docket No. ER02-2189-000]

Take notice that on June 28, 2002, Southern California Edison Company (SCE) tendered for filing a Service Agreement For Wholesale Distribution Service under SCE's Wholesale Distribution Access Tariff and an Interconnection Facilities Agreement (Agreements) between SCE and Whitewater Hill Wind Partners, LLC (Whitewater). SCE respectfully requests the Agreements become effective on June 29, 2002.

These Agreements specify the terms and conditions under which SCE will interconnect Whitewater's generating facility to its electrical system and provide Distribution System capacity for up to 66 MW of power produced by the generating facility.

Copies of this filing were served upon the Public Utilities Commission of the State of California and Whitewater.

Comment Date: July 19, 2002.

6. New England Power Company

[Docket No. ER02-2190-000]

Take notice that on June 28, 2002, New England Power Company (NEP) submitted for filing Original Service Agreement No. 213 for Short-Term Firm HVDC Transmission Service between NEP and H.Q. Energy Services, (U.S.) Inc., under NEP's open access transmission tariff—FERC Electric Tariff, Second Revised Volume No. 9.

Comment Date: July 19, 2002.

7. Progress Energy Inc. on behalf of Effingham County Power, LLC

[Docket No. ER02-2191-000]

Take notice that on June 28, 2002, Effingham County Power, LLC (Effingham County) tendered for filing an executed Service Agreement between Effingham County and the following eligible buyer, Progress Ventures, Inc. Service to this eligible buyer will be in accordance with the terms and conditions of Effingham County's Market-Based Rates Tariff, FERC Electric Tariff No. 1.

Effingham County requests an effective date of June 1, 2002 for this Service Agreement. Copies of the filing were served upon the North Carolina Utilities Commission, the Georgia Public Service Commission and the South Carolina Public Service Commission.

Comment Date: July 19, 2002.

8. California Independent System Operator Corporation

[Docket No. ER02-2192-000]

Take notice that on June 28, 2002, the California Independent System Operator Corporation (ISO) tendered for filing Amendment No. 45. The purpose of the amendment is to allow the ISO to update its transmission Access Charge and Wheeling Access Charge, after the Commission makes a revised transmission revenue requirement effective for a Participating Transmission Owner. The amendment also clarifies certain other aspects of the ISO's transmission Access Charge and Wheeling Access Charge. The ISO requests the amendment be made effective on July 1, 2002.

In addition, the filing provides, for informational purposes, notice of the revised transmission Access Charge and Wheeling Access Charge rates that will go into effect on July 1, 2002 in accordance with the approved formula.The ISO states that this filing has been served on the California Public Utilities Commission, all California ISO Scheduling Coordinators.

Comment Date: July 19, 2002.

9. PJM Interconnection, L.L.C.

[Docket No. ER02-2193-000]

Take notice that on June 28, 2002, PJM Interconnection, L.L.C. (PJM), tendered for filing six executed agreements for network integration transmission service with Allegheny Energy Supply Co. (Allegheny).

PJM requested a waiver of the Commission's notice regulations to permit the effective date of June 1, 2002 for the agreements, the date that the agreements were executed and that service commences under the agreements. Copies of this filing were served upon Allegheny, as well as the state utility regulatory commissions within the PJM region.

Comment Date: July 19, 2002.

10. PJM Interconnection, L.L.C.

[Docket No. ER02-2194-000]

Take notice that on June 28, 2002 PJM Interconnection, L.L.C. (PJM), submitted for filing with the Federal Energy Regulatory Commission (Commission) one executed interim interconnection service agreement between PJM and Motiva Enterprises, L.L.C. (Motiva).

PJM requests a waiver of the Commission's 60-day notice requirement to permit the effective date of June 1, 2002, the date the interim period specified in the agreement commences. Copies of this filing were served upon each of the parties to the agreements and the state regulatory commissions within the PJM region.

Comment Date: July 19, 2002.

11. New York State Electric & Gas Corporation

[Docket No. ER02-2195-000]

Take notice that on June 28, 2002, New York State Electric & Gas Corporation (NYSEG) tendered for filing pursuant to Section 205 of the Federal Power Act and Section 35.13 of the Federal Energy Regulatory Commission's (FERC or Commission) Regulations, an amendment to Rate Schedule 200 filed with FERC corresponding to a Facilities Agreement with the New York Power Authority (NYPA). The proposed amendment would increase revenues by $4,718.95 for the period from September 1, 2002 through August 31, 2003.

This rate filing is made pursuant to Paragraph 5.1 of the October 19, 1999 Facilities Agreement between NYSEG and NYPA, filed with FERC. The annual charges for routine operation and maintenance and general expenses, as well as property taxes, are revised based on data taken from NYSEG's Annual Report to the Federal Energy Regulatory Commission (FERC Form 1) for the twelve month period ending December 31, 2001. The revised facilities charge is levied on the cost of the 135 MVAR capacitor and associated equipment interconnected with NYSEG's Oakdale Substation, constructed by NYSEG for the sole use of NYPA.

NYSEG requests an effective date of September 1, 2002. Copies of the filing were served upon the New York Power Authority and the Public Service Commission of the State of New York.

Comment Date: July 19, 2002.

12. Cleco Power LLC

[Docket No. ER02-2196-000]

Take notice that on June 28, 2002, Cleco Power LLC (Cleco) filed two long-term firm Transmission Service Agreements with Aquila Merchant Services, Inc. under Cleco's Open Access Transmission Tariff (OATT). The Service Agreements are designated as Cleco Power LLC Service Agreement Nos. 59 & 60 to its OATT, FERC Electric Tariff, Original Volume No. 1

Comment Date: July 19, 2002.

13. Bridger Valley Electric Association, Inc.

[Docket No. ER02-2198-000]

Take notice that on June 28, 2002, Bridger Valley Electric Association, Inc. (Bridger Valley) tendered for filing an Open Access Transmission Tariff, designated as FERC Electric Tariff, Original Volume No. 1, and accompanying initial rates for service under the OATT. Bridger Valley requests an effective date of August 27, 2002.

Comment Date: July 19, 2002.

14. WPS Empire State, Inc.

[Docket No. ER02-2199-000]

Take notice that on June 28, 2002, WPS Empire State, Inc. (Empire) submitted its revised market-based rate tariff and Notice of Succession. Empire requests that its revised tariff become effective on June 29, 2002, one day after this filing is made.

This filing has been served on Empire's market-based rate customers.

Comment Date: July 19, 2002.

15. Upper Peninsula Power Company

[Docket No. ER02-2200-000]

Take notice that on June 28, 2002, Upper Peninsula Power Company (UPPCo) tendered for filing First Revised Rate Schedule FERC No. 26 between UPPCo and the City of Escanaba, Michigan for wholesale electric power service (Revised Rate Schedule). The Revised Rate Schedule has been modified to reduce the maximum contract demand capacity obligation of UPPCo to supply firm power to the City and to reduce the contract demand component of the minimum demand billing charge associated with this obligation.

UPPCo respectfully requests that the Revised Rate Schedule become effective as of June 1, 2002. Copies of the filing were served upon the City of Escanaba and the Michigan Public Service Commission.

Comment Date: July 19, 2002.

16. Exelon Generation Company, LLC

[Docket No. ER02-2201-000]

Take notice that on June 27, 2002, Exelon Generation Company, LLC (Exelon Generation), submitted for filing a power sales service agreement between Exelon Generation and Rainy River Energy Corporation, under Exelon Generation's wholesale power sales tariff, FERC Electric Tariff Original Volume No. 2

Comment Date: July 19, 2002.

17. Sithe Energy Marketing, L.P.

[Docket No. ER02-2202-000]

Take notice that on June 28, 2002, Sithe Energy Marketing, L.P. tendered for filing an application for authorization to sell energy, capacity and ancillary services at market-based rates pursuant to section 205 of the Federal Power Act.

Comment Date: July 19, 2002.

18. Mirant Delta, LLC

[Docket No. ER02-2203-000]

Take notice that, on June 28, 2002, Mirant Delta, LLC (Mirant Delta) tendered for filing certain revised tariff sheets to the Must-Run Service (RMR) Agreement (Rate Schedule FERC No. 5) between Mirant Delta and the California Independent System Operator Corporation (CAISO). The revisions (1) reflect the termination of the RMR Agreement as to Pittsburg Power Plant Units 1 and 2, effective retroactively midnight December 31, 2001, and (2) remove an incorrect reference to Pittsburg Power Plant Units 3 and 4.

Comment Date: July 19, 2002.

19. Wisvest-Connecticut, LLC

[Docket No. ER02-2204-000, No. ER99-967-002]

Take notice that on June 28, 2002, Wisvest-Connecticut, LLC (Wisvest-Connecticut) and PSEG Fossil LLC (PSEG Fossil) (collectively Applicants) filed with the Federal Energy Regulatory Commission (Commission) their Notice of Change in Status for Approval of Market-Based Rate Authority and Filing of Conforming Changes to Market-Based Rates Tariff, Subject to Condition of Closing, and request for waivers pursuant to Section 205 of the Federal Power Act, to address the proposed sale of issued and outstanding membership interests in Wisvest-Connecticut to PSEG Fossil. In addition, the Applicants submitted certain revised tariff sheets of Wisvest-Connecticut's existing tariff permitting power sales at market-based rates, in order to conform to the change in status.

Comment Date: July 19, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-17446 Filed 7-10-02; 8:45 am]

BILLING CODE 6717-01-P